NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 28, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

1. Applicant

Permit Application: 2023-024

Nikola Bajo, Grand Circle Corporation, 347 Congress St. Boston MA 02210

Activity for Which Permit Is Requested

Waste Management. The applicant seeks an Antarctic Conservation Act permit authorizing waste management activities associated with the operation of Unmanned Aerial Systems (UAS) in Antarctica for commercial, educational and ice reconnaissance purposes. All pilots will be required to have demonstrated flight experience and must be pre-approved by Expedition Leaders. Flights will not be conducted over any wildlife colonies or concentrations of wildlife, Antarctic Specially Protected Areas or any listed Historical Sites and Monuments. Flights near any Antarctic Stations must first be coordinated with and approved by station leadership. Mitigation measures consistent with those published by IAATO will be adhered to in order to prevent loss of aircrafts and to minimize any potential environmental impacts. The applicant is seeking a waste permit to cover any accidental release that may result from operating UAVs.

Location

Antarctic Peninsula Region

Dates of Permitted Activities

December 12, 2022—March 31, 2027

Erika N. Davis,
Program Specialist, Office of Polar Programs.

[FR Doc. 2022-25833 Filed 11-25-22; 8:45 am]

BILLING CODE 7555-01-P